DEPARTMENT OF TRANSPORTATION

Federal Railroad Administration

[Docket No. FRA-2001-8622]

Notice of Public Hearing; Wheeling and Lake Erie Railway Company

The Wheeling & Lake Erie Railway Company has petitioned the Federal Railroad Administration (FRA), seeking approval of the proposed discontinuance and removal of the traffic control system, on the single main track and sidings, between Spencer, Ohio, milepost 92.0 and Bellevue, Ohio, milepost 54.5, on the Hartland Subdivision, a distance of approximately 37.5 miles, and govern train movements by Track Warrant Control. This Block Signal Application proceeding is identified as Docket No. FRA-2001-8622.

The Wheeling & Lake Erie Railway Company has requested that FRA review its October 11, 2001 decision of denial. In a effort to clarify any previous misunderstandings, the FRA has conducted its own additional investigation and the FRA Railroad Safety Board made an on-site visit and high-rail trip over the application area on July 18, 2002. Notes of the visit, observations made during the trip, and additional information submitted by the railroad are contained in the public docket.

After reviewing the original and most recent proposals, the various field investigations, the previous related dockets, and letters of protest, FRA has determined that a public hearing is necessary before a final decision is made on this application.

The purpose of this public hearing is to gather additional information from all interested parties and to explore all available options and concerns before a final decision is made. Parties should be aware that available options may include reaffirmation of the denial, approval, conditional approval, or approval in part and denial in part.

FRA is specifically interested in public comment regarding the following questions: Are there differences in risk exposure at different locations on the railroad? If so, what are they? Are any of the following options in the public interest and consistent with railroad safety?

• Retention or partial retention of the existing traffic control system;

• Conversion or partial conversion of the traffic control system to an automatic block signal system; or

• Use of alternate technologies known to provide some degree of broken rail protection.

Accordingly, a public hearing is hereby set for 9 a.m. on Thursday, December 12, 2002, in the Job and Family Services Building, located at 185 Shady Lane Drive, in Norwalk Ohio. Interested parties are invited to present oral statements at the hearing.

The hearing will be an informal one and will be conducted in accordance with Rule 25 of the FRA Rules of Practice (49 CFR Part 211.25), by a representative designated by the FRA.

The hearing will be a nonadversary proceeding and, therefore, there will be no cross-examination of persons presenting statements. The FRA representative will make an opening statement outlining the scope of the hearing. After all initial statements have been completed, those persons wishing to make brief rebuttal statements will be given the opportunity to do so in the same order in which they made their initial statements. Additional procedures, if necessary for the conduct of the hearing, will be announced at the hearing.

Issued in Washington, DC on November 6, 2002.
Grady C. Cothen, Jr.,
Deputy Associate Administrator for Safety, Standards and Program Development.

[FR Doc. 02-28677 Filed 11-8-02; 8:45 am]

BILLING CODE 4910-06-P